DEPARTMENT OF HEALTH AND HUMAN SERVICES

National Institutes of Health

Center for Scientific Review; Cancellation of Meeting

Notice is hereby given of the cancellation of the Center for Scientific Review Special Emphasis Panel, Program Projects: NIA Program Project Applications (P01) Review, August 12, 2025, 9:00 a.m. to August 12, 2025, 12:00 p.m., National Institutes of Health, Rockledge II, 6701 Rockledge Drive, Bethesda, MD 20892 which was published in the Federal Register on July 2, 2025, 90 FR 29030, Doc number 29030-29031.

The meeting is cancelled due to the re-assignment of applications.

Dated: July 22, 2025.
Sterlyn H. Gibson,
Program Specialist, Office of Federal Advisory Committee Policy.

[FR Doc. 2025-14008 Filed 7-24-25; 8:45 am]

BILLING CODE 4140-01-P